DEPARTMENT OF TRANSPORTATION

Federal Aviation Administration

14 CFR Part 39

[Docket No. 2002-NM-280-AD]

RIN 2120-AA64

Airworthiness Directives; Fokker Model F.28 Mark 0070 and 0100 Series Airplanes

AGENCY: Federal Aviation Administration, DOT.

ACTION: Notice of proposed rulemaking (NPRM).

SUMMARY: This document proposes the supersedure of an existing airworthiness directive (AD), applicable to all Fokker Model F.28 Mark 0070 and 0100 series airplanes, that currently requires revising the Airworthiness Limitations section of the Instructions for Continued Airworthiness to incorporate life limits for certain items and inspections to detect fatigue cracking in certain structures. This action would require revising the Airworthiness Limitations section of the Instructions for Continued Airworthiness to incorporate updated Airworthiness Limitation Items, Safe Life Items, and Certification Maintenance Requirements. The actions specified by the proposed AD are intended to ensure the structural integrity of the airplane by ensuring that fatigue cracking of certain structural elements is detected and corrected in a timely manner. This action is intended to address the identified unsafe condition.

DATES: Comments must be received by June 11, 2004.

ADDRESSES: Submit comments in triplicate to the Federal Aviation Administration (FAA), Transport Airplane Directorate, ANM-114, Attention: Rules Docket No. 2002-NM-280-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-280-AD” in the subject line and need not be submitted in triplicate. Comments sent via the Internet as attached electronic files must be formatted in Microsoft Word 97 or 2000 or ASCII text.

The service information referenced in the proposed rule may be obtained from Fokker Services B.V., P.O. Box 231, 2150 AE Nieuw-Vennep, the Netherlands. This information may be examined at the FAA, Transport Airplane Directorate, 1601 Lind Avenue, SW., Renton, Washington.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-280-AD.” The postcard will be date stamped and returned to the commenter.

Availability of NPRMs

Any person may obtain a copy of this NPRM by submitting a request to the FAA, Transport Airplane Directorate, ANM-114, Attention: Rules Docket No. 2002-NM-280-AD, 1601 Lind Avenue, SW., Renton, Washington 98055-4056.

Discussion

On October 22, 2001, the FAA issued AD 2001-21-04, amendment 39-12475 (66 FR 54656, October 30, 2001), applicable to all Fokker Model F.28 Mark 0070 and 0100 series airplanes, to require revising the Airworthiness Limitations section (ALS) of the Instructions for Continued Airworthiness to incorporate life limits for certain items and inspections to detect fatigue cracking in certain structures. That action was prompted by issuance of mandatory continuing airworthiness information by the Civil Aviation Authority—The Netherlands (CAA-NL), which is the airworthiness authority for The Netherlands. The requirements of that AD are intended to ensure that fatigue cracking of certain structural elements is detected and corrected. Such fatigue cracking could adversely affect the structural integrity of the affected airplanes.

Explanation of Relevant Service Information

Fokker Services B.V. has issued Issue 2 of Report SE-623, “Fokker 70/100 Airworthiness Limitation Items and Safe Life Items,” dated September 1, 2001, of the Fokker 70/100 Maintenance Review Board (MRB) document. (The existing AD requires incorporation of the original issue of Report SE-623, dated June 1, 2000, into the ALS of the Instructions for Continued Airworthiness.) Issue 2 of Report SE-623 updates certain Airworthiness Limitations Items (ALIs) and Safe Life Items (SLIs). (The items in this report are now contained in Section 6 of the Fokker 70/100 MRB document, Revision 10, dated October 1, 2001.)

Fokker Services B.V. has also issued Issue 5 of Report SE-473, “Fokker 70/100 Certification Maintenance Requirements,” dated July 16, 2001, of Appendix 1 of the Fokker 70/100 Maintenance Review Board (MRB) document. Report SE-473, Issue 5, contains the Certification Maintenance Requirements (CMRs) for systems on Fokker Model F.28 Mark 0070 and 0100 series airplanes. (The items in this report are now contained in Section 6 of the Fokker 70/100 MRB document, Revision 10.)

The CAA-NL classified Reports SE-623, Issue 2, and SE-473, Issue 5, as mandatory, and issued Dutch airworthiness directive BLA 2002-062, dated May 31, 2002, to ensure the continued airworthiness of these airplanes in the Netherlands.

FAA's Conclusions

These airplane models are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. The FAA has examined the findings of the CAA-NL, reviewed all available information, and determined that AD action is necessary for products of this type design that are certificated for operation in the United States.

Explanation of Requirements of Proposed Rule

Since an unsafe condition has been identified that is likely to exist or develop on other airplanes of the same type design registered in the United States, the proposed AD would supersede AD 2001-21-04 to continue to require revising the ALS of the Instructions for Continued Airworthiness to incorporate life limits for certain items and inspections to detect fatigue cracking in certain structures. The proposed AD also would require revising the Airworthiness Limitations section of the Instructions for Continued Airworthiness to incorporate updated ALIs, SLIs, and CMRs. The actions would be required to be accomplished in accordance with Report SE-623, “Fokker 70/100 Airworthiness Limitation Items and Safe Life Items,” and Report SE-473, “Fokker 70/100 Certification Maintenance Requirements,” described previously.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. Because we have now included this material in part 39, we no longer need to include it in each individual AD. Therefore, Note 1 and paragraph (d) of AD 2001-21-04 are not included in this AD, and paragraph (c) of AD 2001-21-04 has been revised and included as paragraph (f) of this AD.

Cost Impact

There are approximately 74 airplanes of U.S. registry that would be affected by this proposed AD.

The ALS revision that is currently required by AD 2001-21-04 takes approximately 1 work hour per airplane to accomplish, at an average labor rate of $65 per work hour. Based on these figures, the cost impact of this currently required action on U.S. operators is estimated to be $4,810, or $65 per airplane.

The new actions that are proposed in this AD action would take approximately 1 work hour per airplane to accomplish, at an average labor rate of $65 per work hour. Based on these figures, the cost impact of the proposed new requirement of this AD on U.S. operators is estimated to be $4,810, or $65 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12475 (66 FR 54656, October 30, 2001), and by adding a new airworthiness directive (AD), to read as follows:

Fokker Services B.V.: Docket 2002-NM-280-AD. Supersedes AD 2001-21-04, Amendment 39-12475.

Applicability: All Model F.28 Mark 0070 and 0100 series airplanes, certificated in any category.

Compliance: Required as indicated, unless accomplished previously.

To ensure that fatigue cracking of certain structural elements is detected and corrected, and to ensure the structural integrity of affected airplanes, accomplish the following:

Requirements of AD 2001-21-04

Airworthiness Limitations Revision

(a) Within 30 days after December 4, 2001 (the effective date of AD 2001-21-04, amendment 39-12475), revise the Airworthiness Limitations section (ALS) of the Instructions for Continued Airworthiness by incorporating Report SE-623, “Fokker 70/100 Airworthiness Limitations Items and Safe Life Items,” of Appendix 1 of Fokker 70/100 Maintenance Review Board (MRB) document, dated June 1, 2000.

(b) Except as provided by paragraph (c) of this AD: After the actions specified in paragraph (a) of this AD have been accomplished, no alternative inspections or inspection intervals may be approved for the structural elements specified in the documents listed in paragraph (a) of this AD.

New Requirements of This AD

New Airworthiness Limitations Revision

(c) Within 6 months after the effective date of this AD, revise the Airworthiness Limitations section (ALS) of the Instructions for Continued Airworthiness by incorporating Report SE-623, “Fokker 70/100 Airworthiness Limitations Items and Safe Life Items,” Issue 2, dated September 1, 2001; and Report SE-473, “Fokker 70/100 Certification Maintenance Requirements,” Issue 5, dated July 16, 2001; into Section 6 of the Fokker 70/100 MRB document. (These reports are already incorporated into Fokker 70/100 MRB document, Revision 10, dated October 1, 2001.) Once the actions required by this paragraph have been accomplished, the original issue of Report SE-623, “Fokker 70/100 Airworthiness Limitations Items and Safe Life Items,” dated June 1, 2000, may be removed from the ALS of the Instructions for Continued Airworthiness.

(d) If the requirements of paragraph (c) of this AD are accomplished within the compliance time specified in paragraph (a) of this AD, it is not necessary to accomplish the requirements of paragraph (a) of this AD.

(e) After the actions specified in paragraph (c) of this AD have been accomplished, no alternative inspections or inspection intervals may be approved for the structural elements specified in the documents listed in paragraph (c) of this AD.

Alternative Methods of Compliance

(f) In accordance with 14 CFR 39.19, the Manager, International Branch, ANM-116, Transport Airplane Directorate, FAA, is authorized to approve alternative methods of compliance for this AD.

Note 1: The subject of this AD is addressed in Dutch airworthiness directive 2002-062, dated May 31, 2002.

Issued in Renton, Washington, on May 5, 2004.
Ali Bahrami,
Acting Manager, Transport Airplane Directorate, Aircraft Certification Service.

[FR Doc. 04-10743 Filed 5-11-04; 8:45 am]

BILLING CODE 4910-13-P